Title 3—

The President

Proclamation 8225 of March 10, 2008

Women's History Month, 2008

By the President of the United States of America

A Proclamation

During Women's History Month, we celebrate the courage, foresight, and resolve of women who have strengthened our democracy.

America has been transformed by strong women whose contributions shaped the history of our country. Amelia Earhart became the first woman to fly solo across the Atlantic, and she inspired generations of women to follow their dreams. Physicist Chien-Shiung Wu helped advance our knowledge and understanding of the world through her achievements in atomic research. Harriet Tubman fought racial injustice and opened doors for more Americans to participate fully in our society.

Today, women are continuing this legacy of leadership as entrepreneurs, doctors, teachers, scientists, lawyers, artists, and public officials. They are also providing guidance and care to their loved ones and strengthening America's families and communities. We also remember the women of the United States Armed Forces who are serving our country with honor and distinction across the world.

This month, we honor the extraordinary women of our Nation's past and recognize the countless women who are demonstrating leadership in every aspect of American life.

NOW, THEREFORE, I, GEORGE W. BUSH, President of the United States of America, by virtue of the authority vested in me by the Constitution and laws of the United States, do hereby proclaim March 2008 as Women's History Month. I call upon all our citizens to observe this month with appropriate programs, ceremonies, and activities that honor the history, accomplishments, and contributions of American women.

IN WITNESS WHEREOF, I have hereunto set my hand this tenth day of March, in the year of our Lord two thousand eight, and of the Independence of the United States of America the two hundred and thirty-second.

[FR Doc. 08-1030

Filed 3-12-08; 8:45 am]

Billing code 3195-01-P